NUCLEAR REGULATORY COMMISSION

[Docket Nos. 50-272 and 50-311]

PSEG Nuclear LLC; Salem Nuclear Generating Station, Unit Nos. 1 and 2 Exemption

1.0 Background

PSEG Nuclear LLC (PSEG or the licensee) is the holder of Facility Operating License Nos. DPR-70 and DPR-75 which authorize operation of the Salem Nuclear Generating Station, Unit Nos. 1 and 2 (Salem), respectively. The licenses provide, among other things, that the Salem Nuclear Generating Station, Unit Nos. 1 and 2 are subject to all rules, regulations, and orders of the Commission now or hereafter in effect.

The facility consists of two pressurized-water reactors located in Salem County, New Jersey.

2.0 Purpose

Pursuant to Title 10 of the Code of Federal Regulations (10 CFR) Section 55.59(c), a facility's licensed operator requalification program must be conducted for a continuous period not to exceed 2 years and upon conclusion must be promptly followed, pursuant to a continuous schedule, by successive requalification programs.

The Code of Federal Regulations at 10 CFR 55.11 states that “The Commission may, upon application by an interested person, or upon its own initiative, grant such exemptions from the requirements of the regulations in this part as it determines are authorized by law and will not endanger life or property and are otherwise in the public interest.”

3.0 Discussion

By letter dated October 28, 2002, PSEG requested a change to the Salem operator licensing requalification training program completion date. This request constitutes a request for exemption under 10 CFR 55.11 from schedule requirements of 10 CFR 55.59(c). The schedule exemption requested would extend the period for completing the Salem requalification training program from October 3, 2002, to January 9, 2003. The next requalification period would begin on January 14, 2003, and end on December 31, 2004, with subsequent requalification periods remaining on a January to December schedule.

The schedule change will allow the facility licensee to align the Salem requalification program with the requalification program of their Hope Creek Generating Station. The affected licensed operators will continue to demonstrate and possess the required levels of knowledge, skills, and abilities needed to safely operate the plant. The limited 3-month delay in completion of the requalification program will include a Special Training Segment for licensed operators. Thus, there is a negligible effect on operator qualification.

4.0 Conclusion

The Commission has determined that pursuant to 10 CFR 55.11, granting an exemption to the facility licensee from the schedule requirements in 10 CFR 55.59(c), by allowing Salem a one-time extension in the allowed time for completing the licensed operator requalification training program, is authorized by law and will not endanger life or property and is otherwise in the public interest.

Therefore, the Commission hereby grants PSEG Nuclear LLC an exemption on a one-time only basis from the schedule requirements of 10 CFR 55.59(c), to allow the completion date for the licensed operator requalification training program at Salem to be extended from October 3, 2002, to January 9, 2003. The next requalification training program will commence on January 14, 2003, and be completed by December 31, 2004, with subsequent 2-year requalification programs to continue on a January to December schedule.

Pursuant to 10 CFR 51.32, the Commission has determined that the granting of this exemption will not have a significant effect on the quality of the human environment (68 FR 1213).

This exemption is effective upon issuance, and expires on January 9, 2003.

For the Nuclear Regulatory Commission.
Dated at Rockville, Maryland, this 9th day of January 2003.
Bruce A. Boger,
Director, Division of Inspection Program Management, Office of Nuclear Reactor Regulation.

[FR Doc. 03-863 Filed 1-14-03; 8:45 am]

BILLING CODE 7590-01-P